DEPARTMENT OF STATE

[Public Notice 9626]

30-Day Notice of Proposed Information Collection: Statement of Exigent/Special Family Circumstances for Issuance of a U.S. Passport to a Minor Under Age 16

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments directly to the Office of Management and Budget (OMB) up to August 4, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, by mail to PPT Forms Officer, U.S. Department of State, CA/PPT/S/L/LA, 44132 Mercure Cir, P.O. Box 1227 Sterling, VA 20166-1227, by phone at (202) 485-6373, or by email at PPTFormsOfficer@state.gov.

SUPPLEMENTARY INFORMATION:

• Title of Information Collection: Statement of Exigent/Special Family Circumstances for Issuance of a U.S. Passport to a Minor Under Age 16.

• OMB Control Number: 1405-0216.

• Type of Request: Revision of a Currently Approved Collection.

• Originating Office: Bureau of Consular Affairs, Passport Services, Office of Legal Affairs and Law Enforcement Liaison (CA/PPT/S/L/LA).

• Form Number: DS-5525.

• Respondents: Individuals.

• Estimated Number of Respondents: 43,526.

• Estimated Number of Responses: 43,526.

• Average Time per Response: 30 min.

• Total Estimated Burden Time: 21,763 hours.

• Frequency: On Occasion.

• Obligation to Respond: Required To Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The information collected on the DS-5525, “Statement of Exigent/Special Family Circumstances for Issuance of a U.S. Passport to a Minor under Age 16”, is used in conjunction with the DS-11, “Application for a U.S. Passport”. The DS-5525 can serve as the statement describing exigent or special family circumstances, which is required if written consent of the non-applying parent or guardian cannot be obtained when a passport application is executed for a minor under age 16.

Methodology:

Passport Services collects information from U.S. citizens and non-citizen U.S. nationals when they complete and submit the DS-5525, “Statement of Exigent/Special Family Circumstances for Issuance of a U.S. Passport to a Minor under Age 16”. Passport applicants can either download the DS-5525 from the internet or obtain the form from an Acceptance Facility/Passport Agency. The form must be completed, signed, and submitted along with the applicant's DS-11, “Application for a U.S. Passport”.

Dated: June 28, 2016.
Brenda S. Sprague,
Deputy Assistant Secretary for Passport Services, Bureau of Consular Affairs, Department of State.

[FR Doc. 2016-15827 Filed 7-1-16; 8:45 am]

BILLING CODE 4710-06-P